Proclamation 7436 of May 8, 2001

National Salvation Army Week, 2001

By the President of the United States of America

A Proclamation

Since its founding in Great Britain in 1865, the Salvation Army has provided humanitarian relief and spiritual guidance to people throughout the world. Its members continue its compassionate tradition of helping wherever there is hunger, disease, destitution, and spiritual need.

Through countless acts of service, members of the Salvation Army actively assist those who suffer in body and spirit. Their victories result in shelter for the homeless, food for the hungry, and self-sufficiency for the disabled. In more than 100 countries, speaking more than 140 languages, the Salvation Army follows Christ's call to “love your neighbor as yourself.”

Members of the Salvation Army demonstrate this love in many ways. Perhaps the best-known services they provide involve meeting the needs of the homeless. However, they also offer assistance to countless other individuals seeking help. Those addicted to drugs or alcohol find a vast network of rehabilitation programs; children born into poverty discover camps and educational opportunities; and those who are ill receive care.

I commend the Salvation Army officers, soldiers, and those who support its mission for their continued dedication to helping meet the physical and spiritual needs of people across the Nation. During this week, I encourage Americans to express their appreciation for the Salvation Army's good works and to follow their example of serving a cause greater than themselves.

NOW, THEREFORE, I, GEORGE W. BUSH, President of the United States of America, by virtue of the authority vested in me by the Constitution and laws of the United States, do hereby proclaim May 14 through May 20, 2001, as National Salvation Army Week. I call upon all the people of the United States to honor the Salvation Army during that week for its faithful ministry in the United States for over 120 years.

IN WITNESS WHEREOF, I have hereunto set my hand this eighth day of May, in the year of our Lord two thousand one, and of the Independence of the United States of America the two hundred and twenty-fifth.

B

[FR Doc. 01-12079

Filed 5-10-01; 8:45 am]

Billing code 3195-01-P